DEPARTMENT OF JUSTICE

Notice of Lodging of Proposed Consent Decree Under the Clean Water Act

On February 3, 2017, the Department of Justice lodged a proposed consent decree with the United States District Court for the Northern District of Indiana, Hammond Division, in the lawsuit entitled United States and the State of Indiana v. Sanitary District of Hammond (N.D. Ind.), Civil Action No. 2:17-cv-00048.

The United States and the State of Indiana filed this lawsuit against the Sanitary District of Hammond (“Defendant”) under the Clean Water Act. The complaint seeks injunctive relief and civil penalties for violations of Defendant's National Pollutant Discharge Elimination System permit and for failing to completely and timely respond to an information request issued to the Defendant by the United States Environmental Protection Agency.

The consent decree requires the Defendant to perform injunctive relief, including developing and implementing a long term control plan to reduce or eliminate discharges of untreated sewage through permitted combined sewer overflow outfalls located in Defendant's wastewater conveyance and treatment system. The Defendant will pay civil penalties of $225,000 to the United States and $22,500 to the State, and will perform a State-only Supplemental Environmental Project. The Defendant will pay stipulated penalties of $313,500 to the United States to resolve the Defendant's alleged violations of a separate consent decree that the parties entered into in 1999. The Defendant will also install and operate a disinfection system on its existing combined sewer overflow storage basin.

The publication of this notice opens a period for public comment on the consent decree. Comments should be addressed to the Assistant Attorney General, Environment and Natural Resources Division, and should refer to United States and the State of Indiana v. Sanitary District of Hammond, D.J. Ref. No. 90-5-1-1-3308/2. All comments must be submitted no later than thirty (30) days after the publication date of this notice. Comments may be submitted either by email or by U.S. mail:

To submit comments: | Send them to:
By email | pubcomment-ees.enrd@usdoj.gov.
By U.S. mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

For a paper copy of the entire Consent Decree with appendices (160 pages at 25 cents per page reproduction cost), please enclose a check or money order for $40.00 made payable to the United States Treasury. For a paper copy without the appendices and signature pages, the cost is $15.75.

Jeffrey Sands,
Assistant Section Chief, Environmental Enforcement Section, Environment and Natural Resources Division.

[FR Doc. 2017-02741 Filed 2-9-17; 8:45 am]

BILLING CODE 4410-15-P